GENERAL SERVICES ADMINISTRATION

[Notice—MK-2013-05; Docket No. 2013-0002; Sequence 20]

The Presidential Commission on Election Administration (PCEA); Upcoming Public Advisory Meeting; Correction

AGENCY: Office of Government-wide Policy, U.S. General Services Administration (GSA).

ACTION: Meeting notice; correction.

SUMMARY: The Presidential Commission on Election Administration (PCEA), is issuing a correction to the Public Advisory Meeting notice, which was published in the Federal Register at 78 FR 35272, June 12, 2013.

DATES: This rule is effective June 25, 2013.

FOR FURTHER INFORMATION CONTACT: Mr. Mark Nejbauer, Designated Federal Officer, President's Commission on Election Administration, GSA, 1776 G Street NW., Washington, DC 20006, email mark.nejbauer@supportthevoter.gov.

SUPPLEMENTARY INFORMATION:

Correction

In rule FR Doc. 2013-13959 published in the Federal Register at 78 FR 35272, June 12, 2013, make the following correction:

On page 35272, in the first column, under Supplementary Information, Meeting Access, remove the address location “David W. Dyer U.S. Courthouse, 300 Northeast 1st Avenue, Miami, Florida 33132.” and add “Bank United Center, University of Miami, 1245 Dauer Drive, Coral Gables, FL 33146” in its place.

Dated: June 19, 2013.
Anne E. Rung,
Acting Associate Administrator (M), Office of Government-wide Policy, General Services Administration.

[FR Doc. 2013-15104 Filed 6-24-13; 8:45 am]

BILLING CODE 6820-14-P